DEPARTMENT OF HOMELAND SECURITY

Federal Emergency Management Agency

[Docket ID FEMA-2014-0002; Internal Agency Docket No. FEMA-B-1449]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: October 31, 2014.
Roy E. Wright,
Deputy Associate Administrator for Mitigation, Department of Homeland Security, Federal Emergency Management Agency.

State and county | Location and case No. | Chief executive officer of community | Community map repository | Online location of letter of map revision | Effective date of modification | Community No.
Connecticut:
Fairfield | Town of Darien (14-01-1743P) | The Honorable Jayme J. Stevenson, First Selectman, Town of Darien, 2 Renshaw Road, Darien, CT 06820. | 2 Renshaw Road, Darien, CT 06820 | http://www.msc.fema.gov/lomc | February 13, 2015 | 090005
Fairfield | Town of Darien (14-01-3341P) | The Honorable Jayme J. Stevenson, First Selectman, Town of Darien, 2 Renshaw Road, Darien, CT 06820 | 2 Renshaw Road, Darien, CT 06820 | http://www.msc.fema.gov/lomc | March 09, 2015 | 090005
Illinois:
Peoria | City of Peoria (14-05-7931P) | The Honorable Jim Ardis, Mayor, City of Peoria, 419 Fulton Street, Room 207, Peoria, IL 61602 | 419 Fulton Street, Room 207, Peoria, IL 61602 | http://www.msc.fema.gov/lomc | February 18, 2015 | 170536
Peoria | Unincorporated Areas of Peoria County (14-05-7931P) | The Honorable Thomas O'Neil, Chairman, Peoria County, 324 Main Street, Peoria, IL 61602 | 324 Main Street, Peoria, IL 61602 | http://www.msc.fema.gov/lomc | February 18, 2015 | 170533
Will | City of Naperville (14-05-5854P) | The Honorable A. George Pradel, Mayor, City of Naperville, 400 South Eagle Street, Naperville, IL 60540 | 400 South Eagle Street, Naperville, IL 60540 | http://www.msc.fema.gov/lomc | February 16, 2015 | 170213
Indiana:
Marion | City of Indianapolis (14-05-4021P) | The Honorable Gregory A. Ballard, Mayor, City of Indianapolis, 200 East Washington Street, Indianapolis, IN 46204 | 200 East Washington Street, Indianapolis, IN 46204 | http://www.msc.fema.gov/lomc | February 4, 2015 | 180159
Iowa:
Woodbury | City of Sioux City (14-07-1433P) | The Honorable Bob Scott, Mayor, City of Sioux City, 405 6th Street, Sioux City, IA 51102 | 405 6th Street, Sioux City, IA 51102 | http://www.msc.fema.gov/lomc | February 10, 2015 | 190298
Kansas:
Butler | City of Andover (14-07-1469P) | The Honroable Ben Lawrence, Mayor, City of Andover, 1609 East Central Avenue, Andover, KS 67002 | 1609 East Central Avenue, Andover, KS 67002 | http://www.msc.fema.gov/lomc | February 13, 2015 | 200383
Butler | Unincorporated Areas Of Butler County (14-07-1469P) | Mr. William Johnson, County Administrator, Butler County, 205 West Central, El Dorado, KS 67042 | 205 West Central, El Dorado, KS 67042 | http://www.msc.fema.gov/lomc | February 13, 2015 | 200037
Michigan:
Macomb | Township of Washington (14-05-2918P) | The Honorable Dan O'Leary, Supervisor, Township of Washington, 57900 Van Dyke Road, Washington Township, MI 48094 | 57900 Van Dyke Road, Washington Township, MI 48094 | http://www.msc.fema.gov/lomc | February 03, 2015 | 260447
Oakland | City of Troy (14-05-4347P) | The Honorable Dan Slater, Mayor, City of Troy, 500 West Big Beaver Road, Troy, MI 48084 | 500 West Big Beaver Road, Troy, MI 48084 | http://www.msc.fema.gov/lomc | February 03, 2015 | 260180
Minnesota:
Washington | City of Woodbury (14-05-4889P) | The Honorable Mary Giuliani-Stephens, Mayor, City of Woodbury, 8301 Valley Creek Road, Woodbury, MN 55125 | 8301 Valley Creek Road, Woodbury, MN 55125 | http://www.msc.fema.gov/lomc | February 05, 2015 | 270699
Ohio:
Butler | City of Monroe (14-05-5954P) | The Honroable Robert E. Routson, Mayor, City of Monroe, 233 South Main Street, Monroe, OH 45050 | 233 South Main Street, Monroe, OH 45050 | http://www.msc.fema.gov/lomc | February 16, 2015 | 390042
Oregon:
Tillamook | City of Nehalem (14-10-1695P) | The Honroable Shirley Kalkhoven, Mayor, City of Nehalem, 35900 8th Street, Nehalem, OR 97131 | 35900 8th Street, Nehalem, OR 97131 | http://www.msc.fema.gov/lomc | February 11, 2015 | 410200
Tillamook | Unincorporated Areas of Tillamook (14-10-1695P) | The Honorbale Tim Josi, Board of County Commissioners, Tillamook County, 201 Laurel Avenue, Tillamook, OR 97141 | 201 Laurel Avenue, Tillamook, OR 97141 | http://www.msc.fema.gov/lomc | February 11, 2015 | 410196
Tillamook | Unincorporated Areas of Tillamook (14-10-1696P) | The Honorbale Tim Josi, Board of County Commissioners, Tillamook County, 201 Laurel Avenue, Tillamook, OR 97141 | 201 Laurel Avenue, Tillamook, OR 97141 | http://www.msc.fema.gov/lomc | February 11, 2015 | 410196

[FR Doc. 2014-29092 Filed 12-10-14; 8:45 am]

BILLING CODE P